DEPARTMENT OF COMMERCE

International Trade Administration

(A-583-833)

Polyester Staple Fiber from Taiwan: Extension of Time Limit for the Final Results of Antidumping Duty Administrative Review

AGENCY: Import Administration, International Trade Administration, Department of Commerce.

EFFECTIVE DATE: June 2, 2008

FOR FURTHER INFORMATION CONTACT: Thomas Schauer or Richard Rimlinger, AD/CVD Operations, Office 5, Import Administration, International Trade Administration, U.S. Department of Commerce, 14th Street and Constitution Avenue, NW., Washington, DC 20230; telephone: (202) 482-0410 and (202) 482-4477, respectively.

SUPPLEMENTARY INFORMATION:

Background

On April 17, 2008, the U.S. Department of Commerce (the Department) published the preliminary results of the administrative review of the antidumping duty order on polyester staple fiber from Taiwan. See Certain Polyester Staple Fiber from Taiwan: Preliminary Results of Antidumping Duty Administrative Review, 73 FR 20907 (April 17, 2008). The final results of this review are currently due no later than August 15, 2008.

Extension of Time Limit of Final Results

Section 751(a)(3)(A) of the Tariff Act of 1930, as amended (the Act), requires the Department to issue final results within 120 days after the date on which the preliminary results are published. If it is not practicable to complete the review within that time period, section 751(a)(3)(A) of the Act allows the Department to extend the time limit for the final results to a maximum of 180 days. See also 19 CFR 351.213(h)(2).

We determine that it is not practicable to complete the final results of this review within the original time limit. We will conduct a verification of the respondent's home-market and U.S. sales responses in June and we will need additional time to give interested parties sufficient time to comment on any verification findings and to analyze and respond to any comments. Accordingly, we are extending the due date for the final results by 60 days, in accordance with section 751(a)(3)(A) of the Act. The final results are now due no later than October 14, 2008.

This extension is issued and published in accordance with sections 751(a)(3)(A) and 777(i) of the Act.

Dated: May 27, 2008.
Stephen J. Claeys,
Deputy Assistant Secretary for Import Administration.

[FR Doc. E8-12257 Filed 5-30-08; 8:45 am]

BILLING CODE 3510-DS-S